Title 3—

The President

Proclamation 7333 of August 24, 2000

Minority Enterprise Development Week, 2000

By the President of the United States of America

A Proclamation

Today, America is enjoying the longest economic expansion in our history, with 22 million new jobs created since my Administration took office in 1993 and the lowest unemployment and inflation rates in more than 30 years. The American people are looking to the future with renewed hope and optimism, eager to embrace the exciting opportunities and meet the new challenges of a dynamic and evolving global marketplace.

If we are to extend this remarkable period of growth and sustain our leadership of the world economy, we must use this time of extraordinary prosperity to ensure that every citizen of our Nation plays a role in our economic growth and benefits from its rewards. One of the surest means of achieving that goal is to promote the full inclusion of minority enterprises in the mainstream of our economy.

My Administration has encouraged the growth and success of minority businesses by ensuring their participation in Government procurement; introducing the New Markets Initiative to bring jobs and capital to America's underserved communities; and strengthening the Community Reinvestment Act. Over the last 8 years, the Small Business Administration has guaranteed $18 billion in loans to more than 80,000 minority-owned firms. And the Department of Commerce's Minority Business Development Agency (MBDA) has assisted more than 430,000 minority-owned businesses with start-up and expansion financing. At Minority Business Development Centers across the country, the MBDA also assists minority clients by providing a variety of business services, including the preparation of business plans, market research and development, financial counseling, and bid preparation.

All Americans stand to benefit from the success of our minority entrepreneurs. With energy and determination, these hardworking men and women create jobs, attract investment, bolster pride, and generate revenue in communities across our Nation. People of different races, people of diverse ethnic backgrounds, people with disabilities—all have skills, new ideas, and fresh perspectives to bring to the marketplace. Minority entrepreneurs have unique contributions to make to our economy and the talent and imagination to produce goods and services that meet the needs of their fellow Americans and of consumers around the world.

The unprecedented strength of America's free enterprise system demonstrates that when people have access to the tools and opportunities they need, there is no limit to what they can achieve. During Minority Enterprise Development Week, let us reaffirm our national commitment to equality in the economic as well as the civic life of our Nation by providing minority entrepreneurs around the country with an equal opportunity to use their abilities, creativity, and motivation to move our Nation forward. By doing so, we will help preserve America's leadership in the global economy.

NOW, THEREFORE, I, WILLIAM J. CLINTON, President of the United States of America, by virtue of the authority vested in me by the Constitution and laws of the United States, do hereby proclaim September 24 through September 30, 2000, as Minority Enterprise Development Week. I call on all Americans to join together with minority entrepreneurs across the country in appropriate observances.

IN WITNESS WHEREOF, I have hereunto set my hand this twenty-fourth day of August, in the year of our Lord two thousand, and of the Independence of the United States of America the two hundred and twenty-fifth.

wj

[FR Doc. 00-22227

Filed 8-28-00; 8:45 am]

Billing code 3195-01-P